DEPARTMENT OF ENERGY

Federal Energy Regulatory Commission

[Docket No. ER00-2566-000]

New England Power Company, Massachusetts Electric Company, and The Narragansett Electric Company; Notice of Filing

May 25, 2000.

Take notice that on May 19, 2000, New England Power Company (NEP), Massachusetts Electric Company (MECO) and The Narragansett Electric Company (Narragansett) tendered for filing: (i) an amended and restated open access transmission tariff—New England Power Company, FERC Electric Tariff, Original Volume No. 9 (Tariff No. 9); (ii) amendments to NEP's Tariff No. 9 Network Integration Transmission Service Agreements with MECO, Narragansett and the Massachusetts Bay Transportation Authority; (iii) notices of succession for certain rate schedules under which the operating companies of Eastern Utilities Associates formerly provided service; and (iv) notices of cancellation for certain rate schedules.

These filings were made in connection with the consummation of the merger of National Grid USA (formerly known as New England Electric System) with Eastern Utilities Associates, and the subsequent consummation of the mergers and consolidations of the respective operating companies of the two systems.

Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions and protests should be filed on or before June 9, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-14145 Filed 6-5-00; 8:45 am]

BILLING CODE 6717-01-M